DEPARTMENT OF HEALTH AND HUMAN SERVICES

Centers for Disease Control and Prevention

[30 Day-12-11JQ]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an email to omb@cdc.gov. Send written comments to CDC Desk Officer, Office of Management and Budget, Washington, DC 20503 or by fax to (202) 395-5806. Written comments should be received within 30 days of this notice.

Proposed Project

Data Collection for Evaluation of Education, Communication, and Training Activities—New—National Center for Emerging and Zoonotic Infectious Diseases (NCEZID), Division of Global Migration and Quarantine (DGMQ), Centers for Disease Control and Prevention (CDC).

Background and Brief Description

The Centers for Disease Control and Prevention (CDC) Division of Global Migration and Quarantine (DGMQ) is requesting a three year approval for a generic clearance to conduct evaluation research in order to plan and implement health communication, education, and training activities to improve health and prevent the spread of disease. These activities include communicating with international travelers and other mobile populations, training healthcare providers, and educating public health departments and other federal partners.

The information collection for which approval is sought is in accordance with DGMQ's mission to reduce morbidity and mortality among immigrants, refugees, travelers, expatriates, and other globally mobile populations, and to prevent the introduction, transmission, or spread of communicable diseases from foreign countries into the United States. This mission is supported by delegated legal authorities.

First, section 361 of the Public Health Service (PHS) Act (42 U.S.C. 264) (Attachment A) authorizes the Secretary of Health and Human Services (HHS) to make and enforce regulations necessary to prevent the introduction, transmission or spread of communicable diseases from foreign countries or possessions into the United States and from one state or possession into any other state or possession. These regulations are codified in 42 Code of Federal Regulations (CFR) parts 70 and 71.

In addition, the Secretary of Health and Human Services also has the legal authority to establish regulations outlining the requirements for the medical examination of aliens before they may be admitted into the United States. This authority is provided under Section 212(a)(1)(A) of the Immigration and Nationality Act (8 U.S.C. 1182(a)(1)(A)) (Attachment B) and Section 325 of the Public Health Service Act (Attachment C). These regulations are codified in 42 CFR part 34, which establish requirements that determine whether aliens can be admitted into the United States.

Successful implementation of DGMQ's regulatory authority and public health mission as outlined above requires a variety of communication, training and educational activities involving staff, partners, mobile populations and the general public. DGMQ conducts these activities in order to inform, educate and empower key audiences with respect to important public health issues.

This generic OMB clearance will allow DGMQ to quickly collect information about the knowledge, attitudes, and behaviors of key audiences (such as refugees, immigrants, migrants, international travelers, travel industry partners, healthcare providers, non-profit agencies, customs brokers and forwarders, schools, state and local health departments) to help improve and inform these activities during both routine and emergency public health events. This generic OMB clearance will help DGMQ continue to refine these efforts in a timely manner, and will be especially valuable for communication activities that must occur quickly in response to public health emergencies.

DGMQ staff will use a variety of data collection methods for this proposed project: interviews, focus groups, group discussions, surveys, and pre-post tests. Depending on the research questions and audiences involved, data may be gathered in-person, by telephone, online, or using some combination of these formats. Data may be collected in quantitative and/or qualitative forms. Numerous audience variables will be assessed under the auspices of this generic OMB clearance. These include, but are not limited to, knowledge, attitudes, beliefs, behavioral intentions, practices, behaviors, skills, self-efficacy, and information needs and sources. Insights gained from evaluation research will assist in the development, refinement, implementation, and demonstration of outcomes and impact of communication, education, and training activities.

The information being collected will not impose a cost burden on the respondents beyond that associated with their time to provide the required data. The total estimated annual burden is 22,166 hours.

Estimated Annualized Burden Hours
Type of respondents | Form name | Number of respondents | Number of responses per respondent | Average burden per response (in hours)
General Public/Healthcare Professionals Focus groups | Screening form Focus Groups | 3000 1500 | 1 1 | 10/60 1.5
General Public/Healthcare Professionals Interviews | Screening Form | 2000 | 1 | 10/60
| Interviews | 1000 | 1 | 1
General Public/Healthcare Professionals Large Group Discussions | Screening Forms Large Group Discussion | 2000 1000 | 1 1 | 10/60 1.5
General Public/Healthcare Professionals Surveys | Screening Forms | 15000 | 1 | 10/60
| Surveys | 7500 | 1 | 45/60
General Public/Healthcare Professionals Pre/post tests | Screening Forms Pre/Post Tests | 15000 7500 | 1 1 | 10/60 45/60

Dated: November 30, 2011.
Daniel Holcomb,
Reports Clearance Officer, Centers for Disease Control and Prevention.

[FR Doc. 2011-31407 Filed 12-6-11; 8:45 am]

BILLING CODE 4163-18-P